DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-008. Applicant: Department of Health and Human Services, Centers for Disease Control and Prevention, Infectious Disease Pathology Activity, 1600 Clifton Road, NE., Mailstop G-32, Atlanta, GA 30333. Instrument: Electron Microscope, Model Tecnai 12 TWIN. Manufacturer: FEI Company, The Netherlands. Intended Use: The instrument is intended to be used to study material of a biological nature in order to investigate pathogens, viruses, bacteria, fungi and parasites within a variety of specimens including human and animal tissue specimens, cellular extracts, tissue-culture cells, viral constructs, cell culture supernatant fluid preparations and other biological specimens. The objectives in the course of scientific investigations are to determine the cause of illness, achieve a diagnosis, and develop rapid diagnostic capacity and study the pathogens of the disease for the detection of specific bioterrorism microorganisms. Application accepted by Commissioner of Customs: March 13, 2002.

Gerald A. Zerdy,
Program Manager, Statutory Import Programs Staff.

[FR Doc. 02-8710 Filed 4-9-02; 8:45 am]

BILLING CODE 3510-05-M